DEPARTMENT OF COMMERCE

International Trade Administration

[A-570-890]

Wooden Bedroom Furniture From the People's Republic of China: Final Results of the Expedited Second Sunset Review of the Antidumping Duty Order

AGENCY: Enforcement and Compliance, International Trade Administration, Department of Commerce.

SUMMARY: As a result of this second sunset review, the Department of Commerce (“the Department”) finds that revocation of the antidumping duty order on wooden bedroom furniture from the People's Republic of China (“PRC”) would likely lead to continuation or recurrence of dumping, at the levels indicated in the “Final Results of Sunset Review” section of this notice.

DATES: Effective March 9, 2016.

FOR FURTHER INFORMATION CONTACT: Jeff Pedersen, AD/CVD Operations, Office IV, Enforcement and Compliance, International Trade Administration, U.S. Department of Commerce, 14th Street and Constitution Avenue NW., Washington, DC 20230; telephone: (202) 482-2769.

Background

On January 4, 2005, the Department published in the Federal Register the antidumping duty order on wooden bedroom furniture from the PRC.¹ On November 3, 2015, the Department published the notice of initiation of the second sunset review of the Order pursuant to section 751(c) of the Tariff Act of 1930, as amended (“Act”).² On November 18, 2015, the Department received a notice of intent to participate in the sunset review from domestic interested parties.³ This notice was filed within the time period specified in 19 CFR 351.218(d)(1)(i).⁴ On December 3, 2015, the domestic interested parties filed a substantive response within the 30-day period specified in 19 CFR 351.218(d)(3)(i).⁵ The Department did not receive a substantive response from any respondent interested party. As a result, pursuant to section 751(c)(3)(B) of the Act and 19 CFR 351.218(e)(1)(ii)(C)(2), the Department conducted an expedited (120-day) sunset review of the Order.

¹ See Notice of Amended Final Determination of Sales at Less Than Fair Value and Antidumping Duty Order: Wooden Bedroom Furniture From the People's Republic of China, 70 FR 329 (January 4, 2005) (“Order”).

² See Initiation of Five-year (“Sunset”) Review, 80 FR 67705 (November 3, 2015) (“Sunset Initiation”).

³ The Domestic interested parties are the American Furniture Manufacturers Committee for Legal Trade (“Committee”) and Vaughan-Bassett Furniture Company, Inc. (“Vaughan-Basset) (collectively “Domestic Interested Parties”). These parties stated that the Committee and each of its members (including Vaughan-Bassett) intend to participate in this sunset review. Local Union 2445, and Teamsters, Chauffeurs, Warehousemen and Helpers Local 991 stated their willingness to participate in this sunset review and support the continuation of the Order.

⁴ See Letter from Domestic Interested Parties “Re: Second Five-Year (Sunset) Review of Antidumping Duty Order on Wooden Bedroom Furniture from the People's Republic of China: Notice of Intent to Participate in Sunset Review,” dated November 18, 2015.

⁵ See Letter from Domestic Interested Parties “Re: Five-Year (“Sunset”) Review of Antidumping Duty Order on Wooden Bedroom Furniture from the People's Republic of China/The Domestic Industry's Substantive Response To The Notice Of Initiation” dated December 3, 2015 (“Domestic Interested Parties' Substantive Response”).

Scope of the Order

The product covered by the Order is wooden bedroom furniture, subject to certain exceptions.⁶ Imports of subject merchandise are classified under Harmonized Tariff Schedule of the United States (“HTSUS”) subheadings: 9403.50.9042 and 9403.50.9045 of the HTSUS as “wooden . . . beds” and under subheading 9403.50.9080 of the HTSUS as “other . . . wooden furniture of a kind used in the bedroom.” In addition, wooden headboards for beds, wooden footboards for beds, wooden side rails for beds, and wooden canopies for beds may also be entered under subheading 9403.50.9042 or 9403.50.9045 of the HTSUS as “parts of wood.” Subject merchandise may also be entered under subheadings 9403.50.9041, 9403.60.8081, or 9403.20.0018. Further, framed glass mirrors may be entered under subheading 7009.92.1000 or 7009.92.5000 of the HTSUS as “glass mirrors . . . framed.” The Decision Memorandum, which is hereby adopted by this notice, provides a full description of the scope of the Order.⁷

⁶ See Order, 70 FR at 329.

⁷ For a full description of the scope of the order, including exclusions, see the “Issues and Decision Memorandum for the Expedited Second Sunset Review of the Antidumping Duty Order on Wooden Bedroom Furniture from the People's Republic of China” from Christian Marsh, Deputy Assistant Secretary for Antidumping and Countervailing Duty Operations, to Paul Piquado, Assistant Secretary for Enforcement and Compliance, dated concurrently with, and hereby adopted by, this notice (“Decision Memorandum”).

The Decision Memorandum is a public document and is on file electronically via Enforcement and Compliance's Antidumping and Countervailing Duty Centralized Electronic Service System (ACCESS). ACCESS is available to registered users at http://access.trade.gov and in the Central Records Unit, Room B8024 of the main Department of Commerce building. In addition, a complete version of the Decision Memorandum can be accessed at http://enforcement.trade.gov/frn/. The signed Decision Memorandum and the electronic version of the Decision Memorandum are identical in content.

Analysis of Comments Received

All issues raised in this sunset review are addressed in the Decision Memorandum. The issues discussed in the Decision Memorandum include the likelihood of continuation or recurrence of dumping, the magnitude of the margins likely to prevail if the Order were to be revoked, and duty absorption.

Final Results of Sunset Review

Pursuant to section 752(c)(3) of the Act, the Department determines that revocation of the Order would likely lead to continuation or recurrence of dumping, and that the magnitude of the dumping margins likely to prevail would be weighted-average dumping margins up to 198.08 percent.

Notification Regarding Administrative Protective Orders

This notice also serves as the only reminder to parties subject to administrative protective order (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these results and notice in accordance with sections 751(c), 752(c), and 777(i)(1) of the Act and 19 CFR 351.218.

Dated: March 2, 2016.
Paul Piquado,
Assistant Secretary for Enforcement and Compliance.

[FR Doc. 2016-05307 Filed 3-8-16; 8:45 am]

BILLING CODE 3510-DS-P